DEPARTMENT OF AGRICULTURE

Submission for OMB Review; Comment Request

April 21, 2021.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by May 26, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Office of Procurement and Property Management

Title: Guidelines for the Transfer of Excess Computer or Other Technical Equipment Pursuant to Section 14220 of the 2008 Farm Bill.

OMB Control Number: 0505-0023.

Summary of Collection: In accordance with procedures in the Federal Management Regulation, Subpart 102-36.295, each agency is responsible for submitting an annual report of all personal property furnished to non-Federal recipients to the General Services Administration. Section 923 of the Federal Agriculture Improvement and Reform Act (FAIR), Public Law 104-127 of 1996, also known as the Farm Bill, gives the Secretary of Agriculture the authority to acquire and transfer title of Federal Excess Personal Property (FEPP) to certain eligible Institutions. Respondents will be authorized representatives of a city, town, or local government entity located in a rural area as defined in 7 U.S.C. 1991(a)(13)(A).

Need and Use of the Information: USDA requires information to: Verify eligibility of requestors; determine availability of excess property; have contact information of the requestor available; and to ensure an organization is designated to receive property on behalf of an eligible recipient. Information is collected via letters from requestors. The request must include: (1) Type of excess computers or other technical equipment requested; (2) Justification for eligibility; (3) Contact information of the requestor; (4) Logistical information such as when and how the property will be picked up; and (5) Information on the recipient's designated organization that will receive and refurbish the property for the recipient. Information will be used to coordinate the transfer of excess property to eligible recipients and as input for the required annual report, of all personal property furnished to non-Federal recipients, to the General Service Administration.

Description of Respondents: State, Local or Tribal Government.

Number of Respondents: 10.

Frequency of Responses: Reporting: On occasion.

Total Burden Hours: 2.

Ruth Brown,
Departmental Information Collection Clearance Officer.

[FR Doc. 2021-08589 Filed 4-23-21; 8:45 am]

BILLING CODE 3412-BA-P